DEPARTMENT OF ENERGY

Federal Energy Regulatory Commission

[Docket Nos. ER02-1656-009 and ER02-2576-001]

California Independent System Operator Corporation; Notice of Technical Conference

November 8, 2002.

The Federal Energy Regulatory Commission Staff is convening a technical conference regarding the Comprehensive Market Redesign 2002 of the California Independent System Operator Corporation (CAISO) to assess the progress of the Stakeholder Working Groups, and to facilitate continued discussions between the CAISO and stakeholders regarding the development of the remaining elements of the CAISO market redesign and to identify related implementation issues. The conference will be held on December 9, 2002 in a hearing room at the Federal Energy Regulatory Commission, 888 First Street, NE., Washington, DC beginning at 9 am.

In preparation for this technical conference, the MD02 Stakeholder Working Groups should file by November 25, 2002, a Stipulation of Issues identifying which issues have been resolved and any issues that remain unresolved. For those issues that remain open, each party should prepare its own Statement of Position. The CAISO should file in the above captioned dockets by December 2, 2002, the presentation referenced in its October 29, 2002 Request for Technical Conference, including slides and accompanying narrative. The CAISO should include software development requirements as part of the presentation. The presentation should also be posted on the CAISO website. To make the most efficient use of the time allotted, all parties should be prepared to discuss the CAISO's posted presentation. The CAISO and its software vendors should be prepared to address technical requirements associated with implementation of revised market design elements.

For additional information concerning the conference, interested persons may contact Susan G. Pollonais at (202) 502-6011 or by electronic mail at susan.pollonais@ferc.gov. No telephone communication bridge will be provided at this technical conference.

Magalie R. Salas,
Secretary.

[FR Doc. 02-29135 Filed 11-15-02; 8:45 am]

BILLING CODE 6717-01-P